DEPARTMENT OF THE INTERIOR

National Park Service

Notice of Proposed National Natural Landmark Designation for Garden Canyon at Fort Huachuca, AZ

AGENCY: National Park Service, Interior.

ACTION: Notice of proposed National Natural Landmark designation.

SUMMARY: The National Park Service Director has determined that Garden Canyon, located within Fort Huachuca, Cochise County, Arizona, appears to meet the criteria for national significance and proposes to recommend the site for designation as a National Natural Landmark. The public is invited to comment on this recommendation. This proposal will be considered by the National Park System Advisory Board at a meeting to be held on March 21 and 22, 2006, at Timucuan Ecological and Historic Preserve, in the Ribault Club, 11241 Fort George Rd., Jacksonville, Florida.

DATES: Written comments will be accepted by the National Park Service until March 21, 2006.

ADDRESSES: Written comments should be sent to Dr. Margaret Brooks, National Natural Landmarks Program Manager, National Park Service, 255 N. Commerce Park Loop, Tucson, Arizona 85745, Internet address: Margi_Brooks@nps.gov.

FOR FURTHER INFORMATION CONTACT: Margaret Brooks at 520-670-6501, extension 232.

SUPPLEMENTARY INFORMATION: Garden Canyon represents the best example of Madrean montane evergreen woodland, Madrean montane conifer forest, and semi-desert grassland in the Mohave-Sonoran desert region. This unique assemblage of biotic communities harbors many subtropical species at the northern edges of their range. The relatively natural fire regime has contributed to the retention of ecosystems in Garden Canyon that are representative of pre-settlement conditions. Information on the National Natural Landmarks Program can be found in 36 CFR Part 62 or on the Internet at http://www.nature.nps.gov/nnl.

Dated: January 17, 2006.
Fran P. Mainella,
Director, National Park Service.

[FR Doc. 06-547 Filed 1-19-06; 8:45 am]

BILLING CODE 4312-52-U